DEPARTMENT OF DEFENSE

Office of the Secretary

Notice of Availability for Exclusive, Non-Exclusive, or Partially-Exclusive Licensing of an Invention Concerning a Radiation Detector System for Locating and Identifying Special Nuclear Material in Moving Vehicles

AGENCY: Defense Threat Reduction Agency, Department of Defense.

ACTION: Notice.

SUMMARY: Announcement is made of the availability for licensing of the invention set forth in “Radiation Detector System for Locating and Identifying Special Nuclear Material in Moving Vehicles,” U.S. Patent 8,110,807, issued February 7, 2012. This invention is owned by the U.S. Government and is available for licensing in the U.S. in accordance with 35 U.S.C. 207 to achieve expeditious commercialization of the results of federally-funded research and development.

ADDRESSES: Director, Defense Threat Reduction Agency, Attn: General Counsel, 8725 John J. Kingman Road, Mail Stop 6201, Fort Belvoir VA 22060-6201.

FOR FURTHER INFORMATION CONTACT: Licensing or patent issues, Ellen Klann, Patent Counsel, Office of General Counsel, Defense Threat Reduction Agency, telephone: (703) 767-4561, fax: (703) 767-4550.

SUPPLEMENTARY INFORMATION: The invention uses a series of combined passive neutron and gamma ray sensors and sensor aggregators, systematically placed along a path of commercial traffic, for example an airport runway, combined with a pulsed source of monoenergetic gamma rays and low energy neutrons. The pulsed source produces a short interrogation pulse of monoenergetic gamma rays and low energy neutrons. These gamma rays induce a fission reaction in any fissile material in their path, such as in a moving vehicle, creating gamma rays and neutrons. The passive sensors located in the path of the moving vehicle detect the resultant gamma and neutron products of the reaction.

Dated: March 2, 2012.
Aaron Siegel,
Alternate OSD Federal Register Liaison Officer, Department of Defense.

[FR Doc. 2012-5545 Filed 3-6-12; 8:45 am]

BILLING CODE 5001-06-P